DEPARTMENT OF THE TREASURY

Internal Revenue Service

26 CFR Part 1

[TD 9806]

RIN 1545-BK66

Definitions and Reporting Requirements for Shareholders of Passive Foreign Investment Companies; Correcting Amendment

AGENCY: Internal Revenue Service (IRS), Treasury.

ACTION: Correcting amendment.

SUMMARY: This document contains corrections to Treasury Decision 9806, which was published in the Federal Register on Wednesday, December 28, 2016. Treasury Decision 9806 contained final regulations that provided guidance on determining ownership of a passive foreign investment company (PFIC) and on certain annual reporting requirements for shareholders of PFICs to file Form 8621, “Information Return by a Shareholder of a Passive Foreign Investment Company or Qualified Electing Fund.”

DATES: These final regulations are effective on and after May 6, 2020, and are applicable on or after December 28, 2016.

FOR FURTHER INFORMATION CONTACT: Martin V. Franks at (202) 317-5181 (not a toll-free number).

SUPPLEMENTARY INFORMATION:

Background

The final regulations (TD 9806) that are the subject of this correction are under sections 1291, 1298, 6038, and 6046 of the Internal Revenue Code.

Need for correction

As published December 28, 2016 (81 FR 95459), the final regulations (TD 9806; FR Doc. 2016-30712) contained errors that needs to be corrected.

List of Subjects in 26 CFR Part 1

Income taxes, Reporting and recordkeeping requirements.

Correction of Publication

Accordingly, 26 CFR part 1 is corrected by making the following correcting amendment:

PART 1—INCOME TAXES

1. The authority citation for part 1 is amended by removing the entry for §§ 1.1291-1T, 1.1291-9, 1.1291-9T, and 1.1298-1T and the entry for § 1.6046-1T to read in part as follows:

Authority: 26 U.S.C. 7805, unless otherwise noted.

* * * * *

Martin V. Franks,
Chief, Publications and Regulations Branch, Legal Processing Division, Associate Chief Counsel (Procedure and Administration).

[FR Doc. 2020-08113 Filed 5-5-20; 8:45 am]

BILLING CODE 4830-01-P